DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of the non-domestic steel component of UNISTRUT fall arrest system, for replacement in kind on Stickel Bridge project no. BR-280-6(091) in New Jersey.

DATES: The effective date of the waiver is July 6, 2010.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., et., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use for the non-domestic steel component for the UNISTRUT fall protection system, which is compatible with the existing system.

In accordance with section 123 of Division A, of the “Consolidated Appropriations Act, 2010” (Pub. L. 111-117), the FHWA published a notice of intent to issue a waiver on its Web site for the steel component of the UNISTRUT fall protection system (http://www.fhwa.dot.gov/construction/contracts/waivers.cfm?id=50) on May 25, 2010. The FHWA received three comments in response to the publication. The three comments suggested different domestic manufacturers of fall protection systems and opposed the approval of the waiver request. The New Jersey Department of Transportation responded with a comment stating that the waiver is for replacement of a component of the existing UNISTRUT fall protection system and not for an entirely new fall protection system. During the 15-day comment period, the FHWA conducted additional nationwide review to locate potential domestic manufacturers of a compatible steel component for the UNISTRUT fall protection system. Based on all the information available to the agency, the FHWA concludes that there are no domestic manufacturers of compatible steel components for the UNISTRUT fall protection system.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the New Jersey waiver page, noted above.

(Authority: 23 U.S.C. 313; Pub. L. 110-161, 23 CFR 635.410)

Issued on: June 23, 2010.
Victor M. Mendez,
Administrator.

[FR Doc. 2010-16082 Filed 7-1-10; 8:45 am]

BILLING CODE 4910-22-P